DEPARTMENT OF COMMERCE

International Trade Administration

[A-427-820, A-428-830, A-475-829, A-580-847, A-412-822, C-475-830]

Revocation of Antidumping Duty Orders on Stainless Steel Bar From France, Germany, Italy, South Korea, and the United Kingdom and the Countervailing Duty Order on Stainless Steel Bar From Italy

AGENCY: Import Administration, International Trade Administration, Department of Commerce.

SUMMARY: On February 1, 2007, the Department of Commerce (“the Department”) initiated sunset reviews of the antidumping duty (“AD”) orders on stainless steel bar (“SSB”) from France, Germany, Italy, South Korea, and the United Kingdom; and the countervailing duty (“CVD”) order on SSB from Italy. See Initiation of Five-Year (“Sunset”) Reviews, 72 FR 4689 (February 1, 2007). Pursuant to section 751(c) of the Tariff Act of 1930, as amended (“the Act”), the International Trade Commission (“ITC”) determined that revocation of these orders would not be likely to lead to continuation or recurrence of material injury to an industry in the United States within a reasonably foreseeable time. See Stainless Steel Bar From France, Germany, Italy, Korea, and The United Kingdom, 73 FR 5869 (January 31, 2008) (“ITC Final”). Therefore, pursuant to section 751(d)(2) of the Act and 19 CFR 351.222(i)(1)(iii), the Department is revoking the AD orders on SSB from France, Germany, Italy, South Korea, and the United Kingdom, and the CVD order on SSB from Italy.

EFFECTIVE DATE: March 7, 2007 (AD Orders) and March 8, 2007 (CVD Order).

FOR FURTHER INFORMATION CONTACT: Devta Ohri or Brandon Farlander, AD/CVD Operations, Import Administration, International Trade Administration, U.S. Department of Commerce, 14th Street and Constitution Avenue, NW., Washington, DC 20230; telephone: (202) 482-3853 and (202) 482-0182, respectively.

SUPPLEMENTARY INFORMATION:

Scope of the Orders

The merchandise subject to these AD and CVD orders is “stainless steel bar,” which includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this review is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the orders is dispositive.

Background

On March 7, 2002, the Department issued the AD orders on SSB from France, Germany, Italy, South Korea, and the United Kingdom. See Antidumping Duty Order: Stainless Steel Bar From France, 67 FR 10385 (March 7, 2002); Notice of Amended Final Determination of Sales at Less Than Fair Value and Antidumping Duty Order: Stainless Steel Bar From Germany, 67 FR 10382 (March 7, 2002); Notice of Antidumping Duty Order: Stainless Steel Bar From Italy, 67 FR 10384 (March 7, 2002); Antidumping Duty Order: Stainless Steel Bar From Korea, 67 FR 10381 (March 7, 2002); Antidumping Duty Order: Stainless Steel Bar From the United Kingdom, 67 FR 10381 (March 7, 2002). On March 8, 2002, the Department issued the CVD order on SSB from Italy. See Countervailing Duty Order: Stainless Steel Bar From Italy, 67 FR 10670 (March 8, 2002).

On February 1, 2007, the Department initiated, and the ITC instituted, sunset reviews of the AD orders on SSB from France, Germany, Italy, South Korea, and the United Kingdom, and the CVD order on SSB from Italy. See Initiation of Five-Year (“Sunset”) Reviews, 72 FR 4689 (February 1, 2007).

As a result of its sunset reviews of these orders, the Department found that revocation of the AD orders would be likely to lead to the continuation or recurrence of dumping and that revocation of the CVD order would be likely to lead to continuation or recurrence of a countervailable subsidy. See Stainless Steel Bar from France, Italy, South Korea and the United Kingdom; Final Results of the Expedited Sunset Reviews of the Antidumping Duty Orders, 72 FR 30772 (June 4, 2007); Stainless Steel Bar from Germany; Final Results of the Sunset Review of the Antidumping Duty Order, 72 FR 56985 (October 5, 2007); Stainless Steel Bar From Italy: Final Results of Expedited Five-Year (“Sunset”) Review of the Countervailing Duty Order, 72 FR 31288 (June 6, 2007). The Department notified the ITC of the magnitude of the margins likely to prevail were the AD orders to be revoked and the level of subsidy likely to prevail were the CVD order to be revoked.

On January 31, 2008, the ITC determined, pursuant to section 751(c) of the Act, that revocation of these orders would not be likely to lead to continuation or recurrence of material injury to an industry in the United States within a reasonably foreseeable time. See ITC Final and USITC Publication 3981 (January 2008), entitled Stainless Steel Bar from France, Germany, Italy, Korea, and the United Kingdom (Inv. Nos. 701-TA-413 and 731-TA-913-916 & 918 (Review)).

Determination

As a result of the determination by the ITC that revocation of these orders is not likely to lead to the continuation or recurrence of material injury to an industry in the United States, the Department, pursuant to section 751(d) of the Act, is revoking the AD orders on SSB from France, Germany, Italy, South Korea, and the United Kingdom, and the CVD order on SSB from Italy. Pursuant to section 751(d) of the Act and 19 CFR 351.222(i)(2)(i), the effective date of revocation is March 7, 2007 (AD Orders) and March 8, 2007 (CVD Order). The Department will notify U.S. Customs and Border Protection to terminate suspension of liquidation and collection of cash deposits on entries of the subject merchandise entered or withdrawn from warehouse on or after March 7, 2007 (AD Orders) and March 8, 2007 (CVD Order). Entries of subject merchandise prior to the effective date of revocation will continue to be subject to suspension of liquidation and antidumping and countervailing duty deposit requirements. The Department will complete any pending administrative reviews of these orders and will conduct administrative reviews of subject merchandise entered prior to the effective date of revocation in response to appropriately filed requests for review.

These five-year sunset reviews and notice are in accordance with section 751(d)(2) of the Act and published pursuant to section 777(i)(1) of the Act.

Dated: January 31, 2008.
David Spooner,
Assistant Secretary for Import Administration.

[FR Doc. E8-2274 Filed 2-6-08; 8:45 am]

BILLING CODE 3510-DS-P